DEPARTMENT OF COMMERCE

National Oceanic and Atmospheric Administration

[I.D. 070605A]

Fisheries of the Exclusive Economic Zone Off Alaska; Prohibited Species Donation Program

AGENCY: National Marine Fisheries Service (NMFS), National Oceanic and Atmospheric Administration (NOAA), Commerce.

ACTION: Notice; selection of an authorized distributor.

SUMMARY: NMFS announces the renewal of permits to SeaShare (formerly Northwest Food Strategies) authorizing this organization to distribute Pacific salmon (salmon) and Pacific halibut (halibut) to economically disadvantaged individuals under the prohibited species donation (PSD) program. Salmon and halibut are caught incidentally during directed fishing for groundfish with trawl gear off Alaska. This action is necessary to comply with provisions of the PSD program and is intended to promote the goals and objectives of the North Pacific Fishery Management Council.

DATES: Effective August 15, 2005, through August 15, 2008.

ADDRESSES: Copies of the PSD permits for salmon and halibut may be obtained from the Sustainable Fisheries Division, NMFS, Alaska Region, P.O. Box 21668, Juneau, AK 99802-21668, Attn: Lori Durall.

FOR FURTHER INFORMATION CONTACT: Melanie N. Brown, phone: 907-586-7228 or e-mail: melanie.brown@noaa.gov.

SUPPLEMENTARY INFORMATION:

Background

Fishing for groundfish by U.S. vessels in the exclusive economic zone of the Bering Sea and Aleutian Islands management area (BSAI) and Gulf of Alaska (GOA) is managed by NMFS according to the Fishery Management Plan for Groundfish of the Bering Sea and Aleutian Islands Management Area and the Fishery Management Plan for Groundfish of the Gulf of Alaska (FMPs). These FMPs were prepared by the North Pacific Fishery Management Council under the Magnuson-Stevens Fishery Conservation and Management Act (16 U.S.C. 1801, et seq.). Regulations governing the Alaska groundfish fisheries appear at 50 CFR parts 600 and 679. Fishing for halibut in waters in and off Alaska is governed by the Convention between the United States and Canada for the Preservation of the Halibut Fishery of the North Pacific Ocean and Bering Sea and by regulations adopted by the International Pacific Halibut Commission (IPHC) and approved by the Secretary of State of the United States pursuant to section 4 of the Northern Pacific Halibut Act (16 U.S.C. 773-773k). Regulations of the IPHC are published as annual management measures in the Federal Register each year pursuant to regulations at 50 CFR 300.62.

Amendments 26 and 29 to the BSAI and GOA FMPs, respectively, were approved by NMFS on July 10, 1996, and implemented a salmon donation program. These amendments were superseded by Amendments 50 and 50 to the FMPs that were approved by NMFS on May 6, 1998, and authorize the PSD program for salmon and halibut. A final rule implementing Amendments 50 and 50 was published in the Federal Register on June 12, 1998 (63 FR 32144). A full description of, and background information on, the PSD program may be found in the preamble to the proposed rules for Amendments 26 and 29, and Amendments 50 and 50 (May 16, 1996, 61 FR 24750 and March 4, 1998, 63 FR 10583, respectively).

Regulations at § 679.26 authorize the voluntary distribution of salmon and halibut taken incidentally in the groundfish trawl fisheries off Alaska to economically disadvantaged individuals by tax-exempt organizations through an authorized distributor. The Administrator, Alaska Region, NMFS (Regional Administrator), may select one or more tax-exempt organizations to be authorized distributors, as defined by § 679.2, based on the information submitted by applicants under § 679.26. After review of qualified applicants, NMFS must announce the selection of authorized distributor(s) in the Federal Register and issue the selected distributor(s) PSD permits.

On April 7, 2005, the Regional Administrator received applications from SeaShare to renew its August 16, 2002, PSD permits (67 FR 47352, July 18, 2002). These permits authorize SeaShare to participate in the PSD program through August 16, 2005.

The Regional Administrator reviewed the applications and determined that they are complete and that SeaShare continues to meet the requirements for a PSD program authorized distributor. As required by § 679.26(b)(2), the Regional Administrator based his selection on the following criteria:

1. The number and qualifications of applicants for PSD permits. As of the date of this notice, only SeaShare has submitted completed applications that were approved by NMFS to distribute salmon and halibut taken incidentally in the Alaska groundfish trawl fisheries. SeaShare has been coordinating the distribution of salmon taken incidentally in trawl fisheries since 1993, and of halibut taken incidentally since 1998, under exempted fishing permits and the PSD program. SeaShare employs independent seafood quality control experts to ensure product quality is maintained by cold storage facilities and common carriers servicing the areas where salmon and halibut donations will take place.

2. The number of harvesters and the quantity of fish that applicants can effectively administer. For salmon, 3 shoreside processors, 17 catcher/processor vessels, and 36 catcher vessels currently participate in the PSD program administered by SeaShare. Three shoreside processors participate in the halibut donation program. SeaShare has the capacity to receive and distribute salmon and halibut from as many as 40 processors and their associated catcher vessels.

In 2002, 2003, and 2004, SeaShare received 102,551 pounds (46.5 mt), 248,333 pounds (112.6 mt), and 463,138 pounds (210.1 mt), respectively, of salmon for distribution to food bank organizations. During these same years, SeaShare received 33,976 pounds (15.4 mt), 18,275 pounds (8.3 mt), and 15,508 pounds (7.0 mt), respectively, of halibut for distribution to food bank organizations. NMFS does not have information to convert accurately the salmon and halibut weights to numbers of salmon and numbers of halibut.

3. The anticipated level of salmon and halibut incidental catch based on salmon and halibut incidental catch from previous years. The incidental catch of salmon and incidental catch mortality of halibut in the GOA and BSAI trawl fisheries are shown in the following table:

Area Fishery | 2003 | 2004
BSAI Trawl Chinook Incidental Catch | 54,989 fish | 62,407 fish
BSAI Trawl Other Salmon Incidental Catch | 197,091 fish | 465,650 fish
GOA Trawl Chinook Incidental Catch | 15,652 fish | 17,798 fish
BSAI Trawl Halibut Mortality | 3,278 mt (7,226,679 lb) | 3,185 mt (7,021,651 lb)
GOA Trawl Halibut Mortality | 2,080 mt (4,585,568 lb) | 2,248 mt (4,955,941 lb)

Halibut incidental catch amounts are constrained by an annual prohibited species catch limit in the BSAI and GOA. Future halibut incidental catch levels likely will be similar to those experienced in 2003 and 2004. Salmon prohibited species incidental catch limits are established for the BSAI pollock fisheries that when attained, result in the closure of specified fishing grounds for a specified period of time. Salmon incidental catch limits are not established for the GOA. In general, salmon incidental catch amounts tend to be variable between years, making accurate prediction of future incidental take amounts difficult.

4. The potential number of vessels and processors participating in the groundfish trawl fisheries. In 2004, 14 shoreside processors were permitted to process catch from trawl vessels. Also, in 2004, 217 trawl catcher vessels, 58 trawl catcher/processors, and 59 motherships and stationary floating processors were permitted for the Alaska groundfish trawl fisheries.

The PSD permits are issued to SeaShare for a 3-year period unless suspended or revoked. They may not be transferred; however, they may be renewed following the application procedures in § 679.26.

If the authorized distributor modifies any information on the PSD permit application submitted under § 679.26(b)(1)(xi) or (b)(1)(xiii), the authorized distributor must submit a modified list of participants or a modified list of delivery locations to the Regional Administrator.

These permits may be suspended, modified, or revoked under 15 CFR part 904 for noncompliance with terms and conditions specified in the permit or for a violation of this section or other regulations in 50 CFR part 679.

Classification

This action is taken under § 679.26.

Authority: 16 U.S.C. 773 et seq., 1801 et seq., and 3631 et seq.

Dated: July 8, 2005.
Alan D. Risenhoover
Acting Director, Office of Sustainable Fisheries, National Marine Fisheries Service.

[FR Doc. 05-13895 Filed 7-14-05; 8:45 am]

BILLING CODE 3510-22-S